DEPARTMENT OF THE INTERIOR

Bureau of Land Management

[LLORL00000.L10200000.XZ0000.LXSSH1050000.20X.HAG 20-00XX]

Notice of Public Meetings for the Southeast Oregon Resource Advisory Council

AGENCY: Bureau of Land Management, Interior.

ACTION: Notice of public meetings.

SUMMARY: In accordance with the Federal Land Policy and Management Act of 1976 and the Federal Advisory Committee Act of 1972, the U.S. Department of the Interior Bureau of Land Management's (BLM) Southeast Oregon Resource Advisory Council (RAC) will meet as indicated below:

DATES: The Southeast Oregon RAC will meet Wednesday and Thursday, August 26 and 27, 2020, at 1 p.m. Pacific Time Wednesday and 8 a.m. Thursday. This is a rescheduled meeting for the postponed April 22-23 meeting. A public comment period will be offered at 10:15 a.m. on Thursday, August 27, 2020. If public health restrictions remain in place, the meeting will be held virtually.

ADDRESSES: The meetings will be held at the Harney County Community Center, 478 N Broadway, Burns, Oregon. If a virtual meeting in necessary, directions to access the meeting will be posted at https://www.blm.gov/get-involved/resource-advisory-council/near-you/oregon-washington/southeast-oregon-rac.

FOR FURTHER INFORMATION CONTACT: Larisa Bogardus, Public Affairs Officer, 3100 H St., Baker City, Oregon 97814; 541-219-6863; lbogardus@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Southeast Oregon RAC is chartered, and the 15 members are appointed by the Secretary of the Interior. Their diverse perspectives are represented in commodity, conservation, and general interests. The RAC serves in an advisory capacity to BLM and U.S. Forest Service officials concerning planning and management of public land and national forest resources located, in whole or part, within the boundaries of the BLM's Vale Field Office of the Vale District, the Burns District, and the Lakeview District and the Fremont-Winema and Malheur National Forests. All meetings are open to the public in their entirety. Information to be distributed to the RAC is requested before the start of each meeting.

Agenda items include updates regarding the Southeast Oregon and Lakeview Resource Management Plan Amendment processes; management of energy and minerals, timber, rangeland and grazing, commercial and dispersed recreation, wildland fire and fuels, and wild horses and burros; review of and/or recommendations regarding proposed actions by the Burns, Vale or, Lakeview BLM Districts; and any other business that may reasonably come before the RAC. A final agenda will be posted online at https://www.blm.gov/get-involved/resource-advisory-council/near-you/oregon-washington/southeast-oregon-rac at least one week before the meeting. Comments can be mailed to: BLM Lakeview District; Attn. Todd Forbes; 1301 South G Street; Lakeview, OR 97630.

Before including your address, phone number, email address, or other personal identifying information in your comments, please be aware that your entire comment—including your personal identifying information—may be made publicly available at any time. While you can ask us in your comment to withhold your personal identifying information from public review, we cannot guarantee we will be able to do so.

(Authority: 43 CFR 1784.4-2)

James (Todd) Forbes,
Lakeview District Manager.

[FR Doc. 2020-16339 Filed 7-27-20; 8:45 am]

BILLING CODE 4310-33-P